DEPARTMENT OF DEFENSE

Office of the Secretary

[Docket ID: DoD-2023-OS-0071]

Submission for OMB Review; Comment Request

AGENCY: Office of the Under Secretary of Defense for Personnel and Readiness (OUSD(P & R)), Department of Defense (DoD).

ACTION: 30-Day information collection notice.

SUMMARY: The DoD has submitted to the Office of Management and Budget (OMB) for clearance the following proposal for collection of information under the provisions of the Paperwork Reduction Act.

DATES: Consideration will be given to all comments received by August 21, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: Title; Associated Form; And Omb Number: Overcoming Barriers to Safe Firearms Storage Among Different Groups; OMB Control Number 0704-OBFS.

Type of Request: New.

Number of Respondents: 1,400.

Responses per Respondent: 1.

Annual Responses: 1,400.

Average Burden per Response: 20 minutes.

Annual Burden Hours: 467 hours.

Needs And Uses: The Defense Suicide Prevention Office (DSPO) has contracted with CNA to conduct a study titled “Overcoming Barriers to Safe Firearms Storage Among Different Groups.” The goal of the study is to assist the services in meeting the requirements set forth in DoD Instruction 6490.16 that all suicide prevention activities are developed from a relevant evidence-base and have an evaluation capability prior to implementation. DSPO wants to craft safe firearm storage messages that will be persuasive to servicemembers of varying races and genders, in response to changing demographics of firearm owners and suicides completed using a firearm. To do so, CNA has developed a survey that will address the following issues:

• What are the barriers to safe firearm storage practices among different groups?

• Do different demographic groups respond to messages differently, and if so, how should messaging be targeted? For example, would these servicemembers respond more positively if their demographic group were featured in safety appeals?

• What principles could be introduced to OSD lethal means safety messaging to make it better resonate across demographic groups?

This survey will provide unique information to help DoD (a) determine what attitudinal and other barriers prevent servicemembers from adopting safe firearms storage practices, (b) decide which aspects of a safe storage message are most persuasive in overcoming those barriers, and (c) learn whether female and Black servicemembers respond differently to safe storage messaging. The findings from the survey will support DoD Instruction 6400.09's mandate to focus suicide prevention efforts on research-based programs, policies, and practices. They will also assist in executing data-informed actions to reduce and stop self-directed harm (Section 1.2.b), promoting an understanding of lethal means safety among the military community (Section 4.3.b), and addressing the needs of high-risk groups (Section 4.7.a.).

Affected Public: Individuals or households.

Frequency: Once.

Respondent's Obligation: Voluntary.

Omb Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: July 17, 2024.
Aaron T. Siegel,
Alternate OSD Federal Register Liaison Officer, Department of Defense.

[FR Doc. 2024-16066 Filed 7-19-24; 8:45 am]

BILLING CODE 6001-FR-P